Proclamation 10768 of May 31, 2024

National Caribbean American Heritage Month, 2024

By the President of the United States of America

A Proclamation

During National Caribbean American Heritage Month, we celebrate the contributions and the diverse cultures of the millions of people across our Nation with Caribbean heritage, who have never let us walk away from our Nation's most sacred values of opportunity and freedom.

Caribbean Americans are dreamers and doers, always finding ways to push our country forward, reach new heights, and forge a more perfect Union. From the Caribbean Americans who helped build our country from the ground up to those who have only just arrived, they have all believed in the possibilities our country has to offer and strengthened the diverse fabric of our Nation. Above all, Caribbean Americans are leaders—they are our beloved doctors, nurses, teachers, athletes, artists, community organizers, entrepreneurs, and our service members and first responders, who put their lives on the line to keep the rest of us safe. I am especially proud of the Caribbean Americans serving across my Administration and working hard to sustain our democracy—including Vice President Kamala Harris, Secretary of Homeland Security Alejandro Mayorkas, and White House Press Secretary Karine Jean-Pierre.

My Administration recognizes that, to keep the torch of liberty that has led generations of immigrants to America burning bright, we must keep ensuring that everyone has a fair shot and access to opportunity. And we are delivering. My Administration has powered a historic economic recovery that created 15 million jobs, achieved the fastest creation rate of Black-owned businesses in more than 30 years, and broke records as Latino entrepreneurs have started new businesses at the fastest rate in over 10 years.

Caribbean Americans also form the foundation of our country's partnerships with nations across the Caribbean as we work to advance opportunity and security across the region. My Administration announced over $275 million in Bipartisan Infrastructure Law funding for projects in the U.S. Virgin Islands that will deliver clean and safe water, access to high-speed internet, public transit, and modern roads and bridges. We launched the Puerto Rico Economic Dialogue and made more than $140 billion in Federal obligations, which have driven the island's economic turnaround. Since I came into office, Puerto Rico has added more than 100,000 new jobs and unemployment reached a historic low of under six percent. We are continuing to work with Caribbean countries to tackle climate change and support clean energy development. In partnership with the Caribbean Community (CARICOM), we launched the Crime Gun Intelligence Unit to combat firearms trafficking. Last summer, my Administration appointed a Coordinator for Caribbean Firearms Prosecutions to lead our efforts to stem firearms trafficking in the Caribbean. Meanwhile, we have been working with CARICOM to restore stability and security in Haiti by facilitating meaningful and inclusive political dialogue and supporting the deployment of the Kenyan-led Multinational Security Support mission. We must complement our security investments with economic support. This is why my Administration supports the reauthorization of the HOPE/HELP trade preferences program in order to spur greater economic prosperity in Haiti.

At the same time, we have been working since day one of my Administration to fix the broken immigration system so that it is safe, orderly, and humane—especially for those in the Caribbean community who are fleeing oppressive rule and trying to escape gang violence to ensure a better life for them and their families. We are working to expand lawful pathways to the United States for Caribbean individuals and establish a faster process for deciding claims of asylum for people who are credibly seeking protection from persecution. My Administration will continue to do everything we can, including calling on the Congress to finally act and pass critical resources and reforms.

America was founded on the idea that all people are created equal and deserve to be treated equally throughout their lives. That promise beats in the hearts of all Caribbean Americans, who have added new meaning to our Nation's founding values. That idea is what connects us to all the Caribbean nations and territories working toward a future rooted in freedom and democracy. This month, may we celebrate all that Caribbean heritage, history, and contributions have meant to our Nation.

NOW, THEREFORE, I, JOSEPH R. BIDEN JR., President of the United States of America, by virtue of the authority vested in me by the Constitution and the laws of the United States, do hereby proclaim June 2024 as National Caribbean American Heritage Month. I encourage all Americans to join in celebrating the history, culture, and achievements of Caribbean Americans with appropriate ceremonies and activities.

IN WITNESS WHEREOF, I have hereunto set my hand this thirty-first day of May, in the year of our Lord two thousand twenty-four, and of the Independence of the United States of America the two hundred and forty-eighth.

[FR Doc. 2024-12484

Filed 6-4-24; 11:15 am]

Billing code 3395-F4-P